INTERNATIONAL TRADE COMMISSION

[Inv. Nos. 701-TA-454 and 731-TA-1144 (Review)]

Welded Stainless Steel Pressure Pipe From China

Determination

On the basis of the record ¹ developed in the subject five-year reviews, the United States International Trade Commission (Commission) determines, pursuant to section 751(c) of the Tariff Act of 1930 (19 U.S.C. 1675(c)), that revocation of the countervailing duty order and antidumping duty order on welded stainless steel pressure pipe from China would likely lead to continuation or recurrence of material injury to an industry in the United States within a reasonably foreseeable time.

¹ The record is defined in sec. 207.2(f) of the Commission's Rules of Practice and Procedure (19 CFR 207.2(f)).

Background

The Commission instituted these reviews on February 3, 2014 (79 FR 6222, February 3, 2014) and determined on May 29, 2014 that it would conduct expedited reviews (79 FR 30877, May 29, 2014).

The Commission completed and filed its determinations in these reviews on July 7, 2014. The views of the Commission are contained in USITC Publication 4478 (July 2014), entitled Welded Stainless Steel Pressure Pipe from China: Investigation Nos. 701-TA-454 and 731-TA-1144 (Review).

Issued: July 9, 2014.
By order of the Commission.
Jennifer D. Rohrbach,
Supervisory Attorney.

[FR Doc. 2014-16403 Filed 7-11-14; 8:45 am]

BILLING CODE 7020-02-P